SECURITIES AND EXCHANGE COMMISSION

[SEC File No. 270-646, OMB Control No. 3235-0695]

Submission for OMB Review; Comment Request; Extension: Rule 17Ad-22

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17Ad-22 (17 CFR 240.17Ad-22) under the Securities Exchange Act of 1934 (“Exchange Act”) (15 U.S.C. 78a et seq.).

Rule 17Ad-22 was adopted to strengthen the substantive regulation of clearing agencies, promote the safe and reliable operation of covered clearing agencies, and improve efficiency, transparency, and access to covered clearing agencies.¹ Rule 17Ad-22, which consists of paragraphs (a)(1) through (e)(23), requires a registered clearing agency to establish, implement, maintain and enforce written policies and procedures reasonably designed to address a number of topics, including governance, operations, and risk management. In particular, Rule 17Ad-22(e) includes requirements for covered clearing agencies, defined as registered clearing agencies that provide the services of a central counterparty or central securities depository; Rule 17Ad-22(d) includes requirements for all registered clearing agencies that are not covered clearing agencies; and Rules 17Ad-22(b) and (c) include certain other requirements for clearing agencies that perform central counterparty services. There are a number of collections of information contained in Rules 17Ad-22(b) through (e). The information collected in these provisions is necessary to assist the Commission in monitoring clearing agencies and carrying out the mandates of the Exchange Act, as amended by the Dodd-Frank Act, as well as the Clearing Supervision Act. The total estimated annual time burden of Rule 17Ad-22 is 8,532 hours, and the total estimated annual cost burden is $14,041,280.

¹ See 17 CFR 240.17Ad-22; see also Exchange Act Release No. 34-68080 (Oct. 22, 2012), 77 FR 66219, 66225-26 (Nov. 2, 2012).

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by February 8, 2023 to (i) www.reginfo.gov/public/do/PRAMain and (ii) David Bottom, Director/Chief Information Officer, Securities and Exchange Commission, c/o John Pezzullo, 100 F Street NE, Washington, DC 20549, or by sending an email to: PRA_Mailbox@sec.gov.

Dated: January 3, 2023.
Sherry R. Haywood,
Assistant Secretary.

[FR Doc. 2023-00133 Filed 1-6-23; 8:45 am]

BILLING CODE 8011-01-P